DEPARTMENT OF THE INTERIOR

Fish and Wildlife Service

[FWS-R8-ES-2016-N041; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before April 15, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-86884B

Applicant: Scott L. Lillie, Surprise, Arizona

The applicant requests a permit amendment to take (harass by survey and nest monitor) the southwestern willow flycatcher (Empidonax traillii extimus) in conjunction with survey activities in California, Arizona, and Nevada, for the purpose of enhancing the species' survival.

Permit No. TE-139628

Applicant: Garcia and Associates, San Francisco, California

The applicant requests a permit renewal to take (harass by survey, capture, handle, and release) the Sierra Nevada yellow-legged frog (Rana sierrae) in conjunction with survey activities throughout the range of the species for the purpose of enhancing the species' survival.

Permit No. TE-36118B

Applicant: Callie J. Ford, Escondido, California

The applicant requests a permit amendment to take (harass by survey, capture, and release) the Casey's June beetle (Dinacoma caseyi) in conjunction with survey activities in Riverside County, California, for the purpose of enhancing the species' survival.

Permit No. TE-86906B

Applicant: Yosemite National Park, El Portal, California

The applicant requests a permit to take (harass by survey, capture, handle, transport, release, collect and/or translocate (eggs, tadpoles, and adults), captive rear, insert PIT (passive integrated transponder) tag, and attach VIT (visual implant elastomer tag) the Sierra Nevada yellow-legged frog (Rana sierrae) in conjunction with research activities in Yosemite National Park, California, for the purpose of enhancing the species' survival.

Permit No. TE-787924

Applicant: Markus Spiegelberg, San Diego, California

The applicant requests a permit renewal to take (locate and monitor nests) the least Bell's vireo (Vireo bellii pusillus); and take (harass by survey and nest monitor) the southwestern willow flycatcher (Empidonax traillii extimus) in conjunction with survey activities throughout the range of the species for the purpose of enhancing the species' survival.

Permit No. TE-157216

Applicant: U.S. Geological Survey, Dixon, California

The applicant requests a permit renewal to take (harass by survey, capture, mark, pit tag, and take biological samples) the San Francisco garter snake (Thamnophis sirtalis tetrataenia) in conjunction with scientific research activities throughout the range of the species in California for the purpose of enhancing the species' survival.

Permit No. TE-87004B

Applicant: Tara R. Baxter, San Diego, California

The applicant requests a permit to take (harass by pursuit) the Quino checkerspot butterfly (Euphydryas editha quino) in conjunction with survey activities throughout the range of the species for the purpose of enhancing the species' survival.

Permit No. TE-027736

Applicant: David Lacoste, San Marcos, California

The applicant requests a permit renewal to take (harass by pursuit) the Quino checkerspot butterfly (Euphydryas editha quino); take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey) the southwestern willow flycatcher (Empidonax traillii extimus) in conjunction with survey activities throughout the range of the species for the purpose of enhancing the species' survival.

Permit No. TE-837448

Applicant: Douglas W. Allen, San Diego, California

The applicant requests a permit renewal to take (survey by pursuit) the Quino checkerspot butterfly (Euphydryas editha quino); take (harass by survey, capture, handle, release, collect vouchers, and collect branchiopod cysts) the Conservancy fairy shrimp (Branchinecta conservatio), longhorn fairy shrimp (Branchinecta longiantenna), and vernal pool tadpole shrimp (Lepidurus packardi); and take (harass by survey, capture, handle, release, collect vouchers, collect, process, analyze vernal pool soil samples for egg (cyst) identification, and hatch out eggs for species identification) the Riverside fairy shrimp (Streptocephalus woottoni), and San Diego fairy shrimp (Branchinecta sandiegonensis) in conjunction with survey activities throughout the range of the species for the purpose of enhancing the species' survival.

Permit No. TE-842267

Applicant: Steve Foreman, Vacaville, California

The applicant requests a permit renewal to take (harass by survey, capture, handle, and release) the California freshwater shrimp (Syncaris pacifica) in Sonoma, Marin, and Napa Counties, California; and take (survey, trap, capture, handle, mark, and release) the salt marsh harvest mouse (Reithrodontomys raviventris) in conjunction with survey activities throughout the range of the species for the purpose of enhancing the species' survival.

Permit No. TE-87548B

Applicant: Jonathan N. Baskin, San Marino, California

The applicant requests a permit to take (capture, handle, and release) the unarmored threespine stickleback (Gasterosteus aculeatus williamsoni) in Los Angeles, Ventura, and San Bernardino Counties, California; take (capture, handle, and release) the tidewater goby (Eucyclogobius newberryi), and Owens tui chub (Gila bicolor snyderi); and take (harass by survey, capture, preserve voucher specimens, and release) the desert pupfish (Cyprinodon macularius) in conjunction with research activities throughout the range of the species in California, for the purpose of enhancing the species' survival.

Permit No. TE-778668

Applicant: Bryan M. Mori, Santa Cruz, California

The applicant requests a permit renewal to take (harass by survey, capture, handle, and release) the Santa Cruz long-toed salamander (Ambystoma macrodactylum croceum) in areas north of Kern and San Luis Obispo Counties, California; and take (harass by survey, capture, and release) the California tiger salamander ((central distinct population segment (DPS), Santa Barbara County DPS, and Sonoma County DPS) (Ambystoma californiense)) in conjunction with research activities throughout the range of the species for the purpose of enhancing the species' survival.

Permit No. TE-092476

Applicant: Scott Quinnell, California Department of Transportation, San Bernardino, California

The applicant requests a permit renewal to take (harass by pursuit) the Quino checkerspot butterfly (Euphydryas editha quino) in conjunction with survey activities throughout the range of the species for the purpose of enhancing the species' survival.

Permit No. TE-87580B

Applicant: City of Costa Mesa, Costa Mesa, California

The applicant requests a permit to take (harass/harm while conducting habitat restoration activities) the San Diego fairy shrimp (Branchinecta sandiegonensis) in conjunction with survey and restoration activities in Costa Mesa, California, for the purpose of enhancing the species' survival.

Permit No. TE-181714

Applicant: Pieter Johnson, Boulder, Colorado

The applicant requests a permit renewal to take (harass by survey, capture, handle, examine for limb malformations, take biological samples, and release) the Santa Cruz long-toed salamander (Ambystoma macrodactylum croceum) and California tiger salamander ((central DPS and Sonoma County DPS) (Ambystoma californiense)) in conjunction with research activities in Alameda, Contra Costa, Marin, Monterey, Napa, Sacramento, San Benito, San Joaquin, San Mateo, Santa Clara, Santa Cruz, Sonoma, Solano, and Yolo Counties, California, for the purpose of enhancing the species' survival.

Permit No. TE-148555

Applicant: Phillip Brylski, Irvine, California

The applicant requests a permit amendment to take (survey, capture, handle, and release) the Fresno kangaroo rat (Dipodomys nitratoides exilis), Tipton kangaroo rat (Dipodomys nitratoides nitratoides), giant kangaroo rat (Dipodomys ingens), San Bernardino Merriam's kangaroo rat (Dipodomys merriami parvus), Stephens' kangaroo rat (Dipodomys stephensi), Amargosa vole (Microtus californicus scirpensis), salt marsh harvest mouse (Reithrodontomys raviventris), Pacific pocket mouse (Perognathus longimembris pacificus), and riparian woodrat (Neotoma fuscipes riparia) in conjunction with survey activities throughout the range of each species in California for the purpose of enhancing the species' survival.

Permit No. TE-40087B

Applicant: U.S. Forest Service, Sonora, California

The applicant requests a permit amendment to take (harass by collecting eggs, tadpoles, and metamorphs for captive rearing) the Sierra Nevada yellow-legged frog (Rana sierrae) in conjunction with captive rearing activities in California for the purpose of enhancing the species' in survival.

Permit No. TE-42833A

Applicant: Ian Maunsell, San Diego, California

The applicant requests a permit amendment to take (harass by survey, capture, handle, release, collect vouchers, and collect branchiopod cysts) the Riverside fairy shrimp (Streptocephalus woottoni) and San Diego fairy shrimp (Branchinecta sandiegonensis) in conjunction with survey activities throughout the range of the species for the purpose of enhancing the species' survival.

Permit No. TE-64146A

Applicant: Patricia M. Varcarcel, San Francisco, California

The applicant requests a permit renewal to take (harass by survey, capture, handle, mark, and release) the San Francisco garter snake (Thamnophis sirtalis tetrataenia) in conjunction with survey activities throughout the range of the species for the purpose of enhancing the species' survival.

Permit No. TE-88417B

Applicant: Phoenix Biological Consulting, Tehachapi, California

The applicant requests a permit to take (harass by survey, nest monitor, and remove brown-headed cowbird (Molothrus ater) eggs and chicks from parasitized nests) the southwestern willow flycatcher (Empidonax traillii extimus); and take (harass by survey, capture, handle, and release) the San Joaquin kit fox (Vulpes macrotis mutica), Tipton kangaroo rat (Dipodomys nitratoides nitratoides), and giant kangaroo rat (Dipodomys ingens) in conjunction with survey activities throughout the range of the species for the purpose of enhancing the species' survival.

Permit No. TE-59775A

Applicant: Norman Sisk, Friant, California

The applicant requests a permit renewal to take (harass by survey, capture, handle, and release) the California tiger salamander ((central DPS, Santa Barbara County DPS, and Sonoma County DPS) (Ambystoma californiense)) in conjunction with survey activities throughout the range of the species for the purpose of enhancing the species' survival.

Permit No. TE-023240

Applicant: William Stolp, Oakhurst, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the California tiger salamander ((central DPS, Santa Barbara County DPS, and Sonoma County DPS) (Ambystoma californiense)), mountain yellow-legged frog ((southern California DPS, and northern California DPS) (Rana muscosa)), Sierra Nevada yellow-legged frog (Rana sierrae), and blunt-nosed leopard lizard (Gambelia silus) in conjunction with survey activities throughout the range of the species for the purpose of enhancing the species' survival.

Permit No. TE-094308

Applicant: Shay Lawrey Redlands, California

The applicant requests a permit renewal to take (harass by survey) the southwestern willow flycatcher (Empidonax traillii extimus) throughout the range of the species in California; and take (harass by capture, handle, and release) the San Bernardino Merriam's kangaroo rat (Dipodomys merriami parvus) in Los Angeles, Riverside, and San Bernardino Counties, California, in conjunction with survey activities for the purpose of enhancing the species' survival.

Permit No. TE-162652

Applicant: Mary Shea, Rohnert Park, California

The applicant requests a permit renewal to take (harass by survey, capture, handle, and release) the California tiger salamander ((central DPS, Santa Barbara County DPS, and Sonoma County DPS) (Ambystoma californiense)) in conjunction with survey activities throughout the range of the species for the purpose of enhancing the species' survival.

Permit No. TE-64546A

Applicant: Power Engineers, Inc., Meridian, Idaho

The applicant requests a permit to take (harass by survey, nest monitor, and remove brown-headed cowbird (Molothrus ater) eggs and chicks from parasitized nests) the southwestern willow flycatcher (Empidonax traillii extimus) in conjunction with survey activities in Arizona, California, Nevada, New Mexico, Texas, and Utah, for the purpose of enhancing the species' survival.

Permit No. TE-88597B

Applicant: Scott Crawford, Yorba Linda, California

The applicant requests a permit to take (harass by pursuit) the Quino checkerspot butterfly (Euphydryas editha quino); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species for the purpose of enhancing the species' survival.

Permit No. TE-054120

Applicant: Russell Huddleston, Oakland, California

The applicant requests a permit renewal to remove/reduce to possession the Chloropyron molle subsp. molle (Cordylanthus mollis subsp. mollis) (soft bird's-beak), Eriogonum apricum (incl. vars. apricum and prostratum) (Ione buckwheat and Irish Hill buckwheat), Lasthenia conjugens (Contra Costa goldfields), Neostapfia colusana (Colusa grass), Orcuttia tenuis (slender orcutt grass), Orcuttia viscida (Sacramento orcutt grass), Pseudobahia bahiifolia (Hartweg's golden sunburst), Tuctoria mucronata (Solano grass) on Federal lands throughout the range of the species; and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species for the purpose of enhancing the species' survival.

Permit No. TE-786728

Applicant: Avocet Research Associates, LLC

The applicant requests a permit to take (harass by survey) the California Ridgway's rail (California clapper r.) (Rallus obsoletus obsoletus) (R. longirostris o.) in conjunction with survey activities throughout the range of the species for the purpose of enhancing the species' survival.

Permit No. TE-071215

Applicant: Rebecca Doubledee, Oakland, California

The applicant requests a permit renewal to take (harass by survey, capture, handle, and release) the California tiger salamander ((central DPS, Santa Barbara County DPS, and Sonoma County DPS) (Ambystoma californiense)), and Sierra Nevada yellow-legged frog (Rana sierrae) in conjunction with survey activities throughout the range of the species for the purpose of enhancing the species' survival.

Permit No. TE-88748B

Applicant: Erika L. Walther, Oakland, California

The applicant requests a permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander ((central DPS, Santa Barbara County DPS, and Sonoma County DPS) (Ambystoma californiense)) in conjunction with survey activities throughout the range of the species in California for the purpose of enhancing the species' survival.

Permit No. TE-097845

Applicant: ManTech SRS Technologies, Lompoc, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) throughout the range of the species; take (harass by survey and nest monitor) the California least tern (Sternula antillarum browni) (Sterna a. browni) in Santa Barbara and San Luis Obispo Counties, California; take (harass by survey and nest monitor) the southwestern willow flycatcher (Empidonax traillii extimus) in Vandenberg Air Force Base; take (survey by pursuit, incidentally handle, and release larvae during host plant seed collection) the El Segundo blue butterfly (Euphilotes battoides allyni) in Los Angeles, San Luis Obispo, Santa Barbara, and Ventura Counties, California; and take (harass by survey, capture, handle, release, and collect) the unarmored threespine stickleback (Gasterosteus aculeatus williamsoni) in Santa Barbara County, California, in conjunction with surveys, population monitoring, and research activities for the purpose of enhancing the species' survival.

Permit No. TE-029414

Applicant: Nathan T. Moorhatch, La Habra, California

The applicant requests a permit renewal to take (survey by pursuit) the Delhi Sands flower-loving fly (Rhaphiomidas terminatus abdominalis); take (harass by pursuit) Quino checkerspot butterfly (Euphydryas editha quino); and take (survey by pursuit, handle, and live-capture) Casey's June beetle (Dinacoma caseyi) in conjunction with survey activities throughout the range of the species in California for the purpose of enhancing the species' survival.

Permit No. TE-836491

Applicant: Michael Wilcox, Riverside, California

The applicant requests a permit renewal to take (survey by pursuit) the Delhi Sands flower-loving fly (Rhaphiomidas terminatus abdominalis) in San Bernardino and Riverside Counties, California; take (harass by pursuit) the Quino checkerspot butterfly (Euphydryas editha quino) in Riverside, Orange, and San Diego Counties, California; and take (survey by pursuit, handle, and live-capture) the Casey's June beetle (Dinacoma caseyi) throughout the range of the species in conjunction with survey activities for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2016-05890 Filed 3-15-16; 8:45 am]

BILLING CODE 4333-15-P